DEPARTMENT OF COMMERCE

International Trade Administration

[A-201-822]

Stainless Steel Sheet and Strip in Coils From Mexico; Antidumping Duty Administrative Review; Extension of Time Limit

AGENCY: Import Administration, International Trade Administration, Department of Commerce.

SUMMARY: The Department of Commerce (the Department) is extending the time limit for the final results of the 2002-2003 administrative review of the antidumping duty order on stainless steel sheet and strip in coils from Mexico. This review covers one manufacturer/exporter of the subject merchandise to the United States, ThyssenKrupp Mexinox S.A. de C.V. (Mexinox), and the period July 1, 2002, through June 30, 2003.

EFFECTIVE DATE: November 26, 2004.

FOR FURTHER INFORMATION CONTACT: Angela Strom at (202) 482-2704, Maryanne Burke at (202) 482-5604 or Robert James at (202) 482-0649, Antidumping and Countervailing Duty Operations, Office Seven, Import Administration, International Trade Administration, U.S. Department of Commerce, 14th Street and Constitution Avenue, NW., Washington, DC 20230.

SUPPLEMENTARY INFORMATION: On August 6, 2004, we published the preliminary results of the administrative review of stainless steel sheet and strip in coils from Mexico for the period July 1, 2002, through June 30, 2003. See Stainless Steel Sheet and Strip in Coils From Mexico; Preliminary Results of Antidumping Duty Administrative Review, 69 FR 47905 (August 6, 2004). Pursuant to the time limits for administrative reviews set forth in section 751(a)(3)(A) of the Tariff Act of 1930, as amended (the Tariff Act), currently the final results of this administrative review are due on December 4, 2004. It is not practicable to complete this review within the normal statutory time limit due to a number of significant case issues, including the calculation of general and administrative expenses, interest expenses and the value of direct materials used in the cost of production and constructed value figures. Furthermore, additional time is necessary for the Department to analyze certain adjustments made to normal value and to evaluate the commercial transactions between Mexinox and affiliated parties. Thus, it is not practicable to complete this review within the normal statutory time limit. Therefore, the Department is extending the time limit for completion of the final results until January 14, 2005, in accordance with section 751(a)(3)(A) of the Tariff Act.

Dated: November 19, 2004.
Jeffrey A. May,
Deputy Assistant Secretary for Import Administration.

[FR Doc. E4-3338 Filed 11-24-04; 8:45 am]

BILLING CODE 3510-DS-P